DEPARTMENT OF ENERGY

Federal Energy Regulatory Commission

[Docket No. CP15-148-000]

Tennessee Gas Pipeline Company, L.L.C; Notice of Revised Schedule for Environmental Review of the Susquehanna West Project

This notice identifies the Federal Energy Regulatory Commission staff's revised schedule for the completion of the environmental assessment (EA) for Tennessee Gas Pipeline Company, L.L.C.'s (TGP) proposed Susquehanna West Project. The first notice of schedule, issued on November 24, 2015, identified February 23, 2016 as the EA issuance date. However, TGP has recently filed supplemental information that warrants further review. As a result, staff has revised the schedule for issuance of the EA.

Schedule for Environmental Review

Issuance of Notice of Availability of the EA, March 17, 2016.

90-day Federal Authorization Decision Deadline, June 15, 2016.

If a schedule change becomes necessary, an additional notice will be provided so that the relevant agencies are kept informed of the project's progress.

Additional Information

In order to receive notification of the issuance of the EA and to keep track of all formal issuances and submittals in specific dockets, the Commission offers a free service called eSubscription (http://www.ferc.gov/docs-filing/esubscription.asp).

Dated: February 5, 2016.
Nathaniel J. Davis, Sr.,
Deputy Secretary.

[FR Doc. 2016-02757 Filed 2-10-16; 8:45 am]

BILLING CODE 6717-01-P